Title 3—

The President

Proclamation 7680 of May 21, 2003

National Maritime Day, 2003

By the President of the United States of America

A Proclamation

Today, as in the past, America depends on our maritime services to help ensure our security, promote our prosperity, and advance the universal hope of freedom. We honor the service and proud history of our merchant mariners and also recognize their important contributions in strengthening our economy.

For generations, merchant marines and commercial sailors have assisted in the defense of our Nation. Most recently, more than 5,000 merchant mariners supported Operations Enduring Freedom and Iraqi Freedom by serving aboard 157 ships moving essential supplies to our troops. As they continue to support our troops in the ongoing war on terror, their mission continues to be dangerous and difficult, and remains vital to our efforts to defend the peace.

We also remember the vital role the Merchant Marine has played in past conflicts. More than 6,000 merchant mariners lost their lives during World War II, and more than 700 U.S. merchant ships were lost. Even before the United States declared war, merchant mariners were making perilous runs to Europe with desperately needed supplies. President Franklin Roosevelt, the first President to issue a proclamation honoring merchant mariners, wrote of their role during wartime: “They have delivered the goods when and where needed in every theater of operations and across every ocean in the biggest, the most difficult and dangerous transportation job ever undertaken.” We are grateful for the contributions and sacrifices of America's merchant mariners before and after World War II, in Korea, Vietnam, the Persian Gulf, and around the world today.

In addition to their efforts to support our troops, merchant marines play a vital role in moving the goods that we produce around the United States and throughout the world. Their work provides jobs and economic benefits to our country, and strengthens our economy. By operating as the eyes and ears of America at sea, they also help protect our homeland.

In recognition of the importance of the U.S. Merchant Marine, the Congress, by joint resolution approved on May 20, 1933, as amended, has designated May 22 of each year as “National Maritime Day,” and has authorized and requested that the President issue an annual proclamation calling for its appropriate observance.

NOW, THEREFORE, I, GEORGE W. BUSH, President of the United States of America, do hereby proclaim May 22, 2003, as National Maritime Day. I call upon the people of the United States to celebrate this observance and to display the flag of the United States at their homes and in their communities. I also request that all ships sailing under the American flag dress ship on that day.

IN WITNESS WHEREOF, I have hereunto set my hand this twenty-first day of May, in the year of our Lord two thousand three, and of the Independence of the United States of America the two hundred and twenty-seventh.

B

[FR Doc. 03-13278

Filed 5-23-03; 8:45 am]

Billing code 3195-01-P